DEPARTMENT OF DEFENSE

Department of the Army

[Docket ID: USA-2023-HQ-0003]

Proposed Collection; Comment Request

AGENCY: Army Corps of Engineers, Department of Defense (DoD).

ACTION: 60-Day information collection notice.

SUMMARY: In compliance with the Paperwork Reduction Act of 1995, the U.S. Army Corps of Engineers announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 21, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Waterborne Commerce Statistics Center, P.O. Box 60267, New Orleans, Louisiana 70160, John Dubberley, or call the Waterborne Statistics Center at (504) 862-1441.

SUPPLEMENTARY INFORMATION: Title; Associated Form; and OMB Number: Vessel Operation Report; ENG Forms 3926, 3925, 3925B, 3925C, and 3925P; OMB Control Number 0710-0006.

Needs and Uses: The information collection requirement is necessary to determine usage on the nation's waterway network. The WCSC and the LPMS databases are the sole government sources for information in the United States on domestic waterborne commerce and lock or canal operation. The Army Corps of Engineers is the agency charged with the collection of this data due to its responsibility for the planning, design, construction, rehabilitation, operation, and maintenance of the inland waterway systems, the Great Lakes, and the channels of the coastal ports.

The aggregate data collected under these programs are published in the annual publications, Waterborne Commerce of the United States, Parts 1-5, Lock Performance Monitoring System Quarterly Reports, and Waterborne Transportation Lines of the United States. Each database and publication provide essential information for an understanding of the utilization of our Nation's navigation systems and the fleet using these systems. The data bases provide essential information to those with the responsibilities over the physical system or to those involved in shipping or moving commodities on the Nation's waterways.” [River and Harbor Act of September 22, 1922 (42 Stat. 1043)].

Affected Public: Individuals or households.

Annual Burden Hours: 10,080.

Number of Respondents: 840.

Responses per Respondent: 12.

Annual Responses: 10,080.

Average Burden per Response: 1 hour.

Frequency: On occasion.

The end result of using both the ENG Form 3925 series and ENG Form 3926, despite collecting very similar data, is to ensure WCSC is able to paint a complete picture of vessel movements and cargo carried on U.S. waterways. Each set of data produced from the forms allows WCSC to ensure accuracy and completeness. The data are used to annually publish Waterborne Commerce of the United States (WCUS) Ports and Waterways, which presents detailed data on the movements of vessels and commodities at the ports and harbors and on the waterways and canals of the United States and its territories. It also provides statistics on the foreign and domestic waterborne commerce moved through the U.S. waters. Congress receives this annual report, and the data contained therein are used in cost-benefit analyses for new projects, rehabilitation projects, and operations and maintenance of existing projects. It is also used by other Federal agencies involved in transportation and security. Researchers and private organizations also use the data regularly to help decide on which locales are best models for their studies/needs.

Dated: January 17, 2023.
Aaron T. Siegel,
Alternate OSD Federal Register Liaison Officer, Department of Defense.

[FR Doc. 2023-01078 Filed 1-19-23; 8:45 am]

BILLING CODE 5001-06-P